SECURITIES AND EXCHANGE COMMISSION

[File No. 500-1]

Divedepot.com, Inc., GS Telecom Ltd., Rocky Mountain Financial Enterprises, Inc., US Data Authority, Inc.; Order of Suspension of Trading

August 5, 2005.

It appears to the Securities and Exchange Commission that there is a lack of current and accurate information concerning the securities of Divedepot.com, Inc., because it is delinquent in its periodic filing obligations under section 13(a) of the Securities Exchange Act of 1934, having not filed a periodic report since the period ending September 30, 2000.

It appears to the Securities and Exchange Commission that there is a lack of current and accurate information concerning the securities of GS Telecom Ltd., because it is delinquent in its periodic filing obligations under section 13(a) of the Securities Exchange Act of 1934, having not filed a periodic report since the period ending March 31, 2001.

It appears to the Securities and Exchange Commission that there is a lack of current and accurate information concerning the securities of Rocky Mountain Financial Enterprises, Inc., because it is delinquent in its periodic filing obligations under section 13(a) of the Securities Exchange Act of 1934, having not filed a periodic report since the period ending September 30, 2001.

It appears to the Securities and Exchange Commission that there is a lack of current and accurate information concerning the securities of US Data Authority, Inc., because it is delinquent in its periodic filing obligations under section 13(a) of the Securities Exchange Act of 1934, having not filed a periodic report since the period ending March 31, 2003.

The Commission is of the opinion that the public interest and the protection of investors require a suspension of trading in the securities of the above-listed companies.

Therefore, it is ordered, pursuant to section 12(k) of the Securities Exchange Act of 1934, that trading in the above-listed companies is suspended for the period from 9:30 a.m. e.d.t. on August 5, 2005, through 11:59 p.m. e.d.t. on August 18, 2005.

By the Commission.
J. Lynn Taylor,
Assistant Secretary.

[FR Doc. 05-15791 Filed 8-5-05; 11:30 am]

BILLING CODE 8010-01-P